DEPARTMENT OF AGRICULTURE

Forest Service

Revision of Land Management Plan for the George Washington National Forest, Virginia and West Virginia

AGENCY: Forest Service, USDA.

ACTION: Notice of adjustment for resuming the land management plan revision process

SUMMARY: The USDA, Forest Service is resuming preparation of the George Washington National Forest revised land management plan as directed by the National Forest Management Act (NFMA). Preparation of the revised plan was halted when the 2005 Forest Service planning rule was enjoined. A new planning rule (36 CFR Part 219 was adopted on April 21, 2008 allowing the planning process to be resumed. This notice resumes the plan revision process under the new 2008 planning rule. This notice also provides:

1. An estimated schedule for the planning process;

2. Request for additional public comments on the agency's draft Comprehensive Evaluation Report, and how the public can comment;

3. A list of documents available and how to get them;

4. Who to contact for more information.

DATES: This notice is effective on June 24, 2008. Comments on the draft Comprehensive Evaluation Report are requested to be postmarked or received by August 8, 2008. A series of public meetings will resume beginning in July 2008. The dates, times and locations of these meetings will be posted at our Internet Web site: http://www.fs.fed.us/r8/gwj/. This information can also be obtained from the contact information below. More detailed information on the proposed schedule is in the Supplementary Information Section.

ADDRESSES: Written comments on the need for change are being accepted. Send written comments to George Washington Plan Revision, George Washington & Jefferson National Forests, 5162 Valleypointe Parkway, Roanoke, Virginia 24019-3050. Electronic comments should include “GW Plan Revision” in the subject line and be sent to: comments-southern-georgewashington-jefferson@fs.fed.us.

Additional information on the GWNF Forest Plan is available at: http://www.fs.fed.us/r8/gwj/.

FOR FURTHER INFORMATION CONTACT: Ken Landgraf, Planning Staff Officer, or JoBeth Brown, Public Affairs Officer, George Washington & Jefferson National Forests, (540) 265-5100.

SUPPLEMENTARY INFORMATION: Notification of initiation of plan revision process for the George Washington National Forest revised land management plan was provided in the Federal Register on February 15, 2007 [72 FR 7390]. The plan revision was initiated under the planning procedures contained in the 2005 Forest Service planning rule (36 CFR 219 (2005)). On March 30, 2007, the federal district court for the Northern District of California enjoined the Forest Service from implementing and using the 2005 planning rule until the agency provided notice and comment and conducted an assessment of the rule's effects on the environment and completed consultation under the Endangered Species Act. Revision of the George Washington National Forest revised land management plan under the (36 CFR 219 (2005)) rule was suspended in response to the injunction. On April 21, 2008 the Forest Service adopted a new planning rule. This rule (36 CFR 219 (2008)) was adopted following completion of an environmental impact statement and consultation under the Endangered Species Act. This new planning rule explicitly allows the resumption of plan revisions started under the previous rule (36 CFR 219 (2005)) based on a finding that the revision process conforms to the new planning rule (36 CFR 219.14(b)(3)(ii)).

Prior to injunction of the 2005 planning rule the George Washington National Forest had developed a draft Comprehensive Evaluation Report on the need for change. The Forest had just begun to engage the American public in a dialogue on what they thought needed to be changed from the 1993 revised Forest Plan. Only one series of public meetings had occurred during March 2007 prior to the injunction.

Based primarily on the discussion above, I find that the planning actions taken prior to April 21, 2008 conform to the planning process of the 2008 planning rule and for that reason the plan revision process does not need to be restarted.

The Need for Change

The GWNF Forest Plan was last revised in 1993. Planning regulations require that plans be revised at least every 15 years. The 1993 revision was a major effort that involved the participation of many stakeholders. The purpose of the current revision is to examine management direction that needs to change and determine how best to make those changes.

Based upon new information acquired in the past year, the Forest Service has appended its initial Comprehensive Evaluation Report of February 2007 with social and economic conditions and trends. The George Washington National Forest is resuming its plan revision process by seeking additional public comments on the need to change the 1993 plan.

Planning Schedule

After resumption of the planning process, the Forest Service will hold a series of public meetings. The Forest Supervisor will then determine which issues will be carried forward for further analysis in the revision process.

Additional public meetings will then be held throughout the summer and fall of 2008 to discuss development of the Forest Plan components in response to the issues that will be carried forward for further analysis. In early spring of 2009 the Forest Service expects to release a Proposed Forest Plan for formal public review and comment. A notice will be published in the Federal Register that will begin an official 90-day comment period on the Proposed Forest Plan. The Forest Service will review the comments, hold additional public meeting(s), and then make any appropriate changes to the Proposed Forest Plan. Another notice will then be published in the Federal Register to begin a 30-day objection period. This is anticipated to be published in the summer or early fall of 2009. After any objections are resolved, the Forest Plan will be approved by the Forest Supervisor.

Documents Available for Review

A number of documents are available for review. These are available at the Web site http://www.fs.fed.us/r8/gwj/_. Additional documents will be added to this site throughout the planning process.

How the Public Can Participate in the Planning Process

A series of public meetings will be held beginning in July 2008. The planning process will emphasize those things that need to change from the 1993 Forest Plan. The focus of the current planning regulations is on establishing a collaborative approach to planning. Therefore, the best opportunity for dialogue is to participate in the discussions at the various public meetings to be held throughout the process. These meetings will all be announced on the GWNF Web site. A formal comment opportunity will be provided when the Proposed Forest Plan is completed.

Only parties that participate in the planning process through the submission of written comments can submit an objection pursuant to 36 CFR 219.13(a).

Responsible Official

The Forest Supervisor, George Washington & Jefferson National Forests, is the Responsible Official (36 CFR 219.2(b)(1)).

Authority: 16 U.S.C. 1600-1614; 36 CFR 219.14; 73 FR 21468, April 21, 2008.

Dated: June 16, 2008.
Maureen Hyzer,
Forest Supervisor.

[FR Doc. E8-14292 Filed 6-23-08; 8:45 am]

BILLING CODE 3410-11-P